DEPARTMENT OF HEALTH AND HUMAN SERVICES

National Institutes of Health

National Institute on Alcohol Abuse and Alcoholism; Notice of Meeting

Pursuant to section 10(d) of the Federal Advisory Committee Act, as amended (5 U.S.C. App), notice is hereby given of the Board of Scientific Counselors, NIAAA.

The meeting will be open to the public as indicated below, with attendance limited to space available. Individuals who plan to attend and need special assistance, such as sign language interpretation or other reasonable accommodations, should notify the Contact Person listed below in advance of the meeting.

The meeting will be closed to the public in accordance with the provisions set forth in section 552b(c)(6), Title 5 U.S.C., as amended, for the review, discussion, and evaluation of individual intramural programs and projects conducted by the National Institute on Alcohol Abuse and Alcoholism, including consideration of personnel qualifications and performances, and the competence of individual investigators, the disclosure of which would constitute a clearly unwarranted invasion of personal privacy.

Name of Committee: Board of Scientific Counselors, NIAAA.

Date: September 1-2, 2010.

Open: September 1, 2010, 7:45 a.m. to 8 a.m.

Agenda: Public Session.

Place: National Institutes of Health, 5625 Fishers Lane, Bethesda, MD 20892.

Closed: September 1, 2010, 8 a.m. to 7 p.m.

Agenda: To review and evaluate the Laboratory for Integrative Neuroscience (LIN).

Closed: September 2, 2010, 8 a.m. to 2:15 p.m.

Agenda: To review and evaluate the Laboratory Molecular Physiology (LMP).

Place: National Institutes of Health, 5625 Fishers Lane, Bethesda, MD 20892.

Contact Person: Trish Scullion, Chief of Administration Branch, National Institutes of Health, National Institute on Alcohol Abuse and Alcoholism, 5635 Fishers Lane, Room 3061, Rockville, MD 20852, 301-443-6076.

Information is also available on the Institute's/Center's home page: http://www.silk.nih.gov/silk/niaaa1/about/roster.htm, where an agenda and any additional information for the meeting will be posted when available.

(Catalogue of Federal Domestic Assistance Program Nos.: 93.271, Alcohol Research Career Development Awards for Scientists and Clinicians; 93.272, Alcohol National Research Service Awards for Research Training; 93.273, Alcohol Research Programs; 93.891, Alcohol Research Center Grants; 93.701, ARRA Related Biomedical Research and Research Support Awards, National Institutes of Health, HHS)

Dated: July 29, 2010.
Jennifer Spaeth,
Director, Office of Federal Advisory Committee Policy.

[FR Doc. 2010-19169 Filed 8-3-10; 8:45 am]

BILLING CODE 4140-01-P